DEPARTMENT OF AGRICULTURE

Rural Business-Cooperative Service

Notice of Request for Revision of a Currently Approved Information Collection

AGENCY: Rural Business and Cooperative Programs, Rural Business-Cooperative Service, USDA.

ACTION: Proposed collection; Comments requested.

SUMMARY: In accordance with the Paperwork Reduction Act of 1995, this notice announces the Rural Business and Cooperative Service's intention to request a revision for a currently approved information collection in support of the program for 7 CFR, part 1951, subpart R, “Rural Development Loan Servicing.”

DATES: Comments on this notice must be received by July 16, 2018 to be assured of consideration.

FOR FURTHER INFORMATION CONTACT: Lori Hood, Rural Business-Cooperative Service, USDA, STOP 3226, 1400 Independence Ave. SW, Washington, DC 20250-3226, Telephone: (202) 720-1400.

SUPPLEMENTARY INFORMATION:

Title: Intermediary Relending Program.

OMB Number: 0570-0015.

Expiration Date of Approval: September 30, 2018.

Type of Request: Revision of a currently approved information collection and recordkeeping requirements.

Abstract: The regulations contain various requirements for information from the intermediaries and some requirements may cause the intermediary to require information from ultimate recipients. The information requested is vital to RBS for prudent loan servicing, credit decisions, and reasonable program monitoring.

Estimate of Burden: Public reporting for this collection of information is estimated to average 3 hours per response.

Respondents: Non-profit corporations, public agencies, and cooperatives.

Estimated Number of Respondents: 450.

Estimated Number of Responses per Respondent: 8.3.

Estimated Number of Responses: 3,741.

Estimated Total Annual Burden on Respondents: 11,253 hours.

Copies of this information collection can be obtained from Jeanne Jacobs, Regulations and Paperwork Management Branch, Support Services Division, at (202) 692-0040.

Comments: Comments are invited on: (a) Whether the proposed collection of information is necessary for the proper performance of the functions of Business and Cooperative Programs, including whether the information will have practical utility; (b) the accuracy of Business and Cooperative Programs estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW, Washington, DC 20250. All responses to this notice will be summarized and included in the request for OMB approval. All comments will also become a matter of public record.

Dated: May 3, 2018.
Bette B. Brand,
Administrator, Rural Business-Cooperative Service.

[FR Doc. 2018-10549 Filed 5-16-18; 8:45 am]

BILLING CODE 3410-XY-P